DEPARTMENT OF LABOR

Employment and Training Administration

Pottstown Precision Casting, Inc./Harvard Industries, Inc., Formerly Known as Doehler Jarvis, Stowe, Pennsylvania; Notice of Affirmative Determination Regarding Application for Reconsideration

By letter dated May 2, 2001, the International Union, United Automobile, Aerospace & Agricultural Implement Workers of America (UAW), requested administrative reconsideration of the Department of Labor's Notice of Negative Determination Regarding Eligibility to Apply for Trade Adjustment Assistance, applicable to workers of the subject firm. The denial notice was signed on February 20, 2001 and published in the Federal Register on April 5, 2001 (66 FR 18117).

The Department's review of the application shows that information provided supports reopening of the petition investigation.

Conclusion

After careful review of the application, I conclude that the claim is of sufficient weight to justify reconsideration of the Department of Labor's prior decision. The application is, therefore, granted.

Signed at Washington, DC, this 15th day of August, 2001.
Edward A. Tomchick,
Director, Division of Trade Adjustment Assistance.

[FR Doc. 01-21846 Filed 8-28-01; 8:45 am]

BILLING CODE 4510-30-M